DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Observer Policy Committee meeting on Thursday, December 17, 2015 to consider actions affecting New England fisheries in the exclusive economic zone (EEZ). Recommendations from this group will be brought to the full Council for formal consideration and action, if appropriate.

DATES: This meeting will be held on Thursday, December 17, 2015 at 9 a.m.

ADDRESSES: The meeting will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Observer Committee will focus its discussion on the omnibus alternatives in the Omnibus Industry-Funded Monitoring (IFM) Amendment. The Committee may receive a brief update on the revised economic analysis for herring and mackerel alternatives, only if the analysis is sufficiently complete before the meeting date.

Discussion topics include: To review/discuss omnibus alternatives in the IFM Amendment; review primary components to the omnibus alternatives, including standard cost responsibilities, administrative requirements for monitoring service providers, the framework adjustment process, and the prioritization process; review/discuss data utility considerations for observer/at-sea monitoring, portside sampling, and electronic monitoring; review/discuss revised cost assumptions for electronic monitoring and portside sampling; review/discuss the monitoring set-aside option in the IFM amendment. The Committee will also develop recommendations regarding the selection of preferred omnibus alternatives for the omnibus IFM amendment and possibly review revised economic analysis for herring and mackerel alternatives. The Committee may address other business as necessary.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: November 25, 2015.
Tracey L. Thompson,
Acting Deputy Director, Office of Sustainable Fisheries, National Marine Fisheries Service.

[FR Doc. 2015-30419 Filed 11-30-15; 8:45 am]

BILLING CODE 3510-22-P